DEPARTMENT OF TRANSPORTATION

Federal Aviation Administration

14 CFR Part 39

[Docket No. FAA-2019-0495; Product Identifier 2019-NM-029-AD]

RIN 2120-AA64

Airworthiness Directives; Airbus SAS Airplanes

AGENCY: Federal Aviation Administration (FAA), DOT.

ACTION: Notice of proposed rulemaking (NPRM).

SUMMARY: The FAA proposes to supersede Airworthiness Directive (AD) 2019-05-09, which applies to certain Airbus SAS Model A320-251N and -271N airplanes, and Model A321-253N airplanes. AD 2019-05-09 requires repetitive detailed inspections of certain electrical harnesses for discrepancies and corrective actions, if necessary. AD 2019-05-09 also provides an optional terminating modification for the repetitive detailed inspections. Since we issued AD 2019-05-09, the FAA has determined that it is necessary to require the terminating modification. This proposed AD would retain the actions of AD 2019-05-09 and add a requirement for a terminating modification for the repetitive inspections, as specified in an European Aviation Safety Agency (EASA) AD, which will be incorporated by reference. The FAA is proposing this AD to address the unsafe condition on these products.

DATES: The FAA must receive comments on this proposed AD by August 15, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the material identified in this proposed AD that will be incorporated by reference (IBR), contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2019-0495; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Sanjay Ralhan, Aerospace Engineer, International Section, Transport Standards Branch, FAA, 2200 South 216th St., Des Moines, WA 98198; telephone and fax 206-231-3223.

SUPPLEMENTARY INFORMATION:

Comments Invited

The FAA invites you to send any written relevant data, views, or arguments about this proposal. Send your comments to an address listed under the ADDRESSES section. Include “Docket No. FAA-2019-0495; Product Identifier 2019-NM-029-AD” at the beginning of your comments. The FAA specifically invites comments on the overall regulatory, economic, environmental, and energy aspects of this NPRM. The FAA will consider all comments received by the closing date and may amend this NPRM based on those comments.

The FAA will post all comments, without change, to http://www.regulations.gov, including any personal information you provide. The FAA will also post a report summarizing each substantive verbal contact the agency receives about this NPRM.

Discussion

The FAA issued AD 2019-05-09, Amendment 39-19591 (84 FR 10259, March 20, 2019) (“AD 2019-05-09”), for certain Airbus SAS Model A320-251N and -271N airplanes, and Model A321-253N airplanes. AD 2019-05-09 requires repetitive detailed inspections of certain electrical harnesses for discrepancies and corrective actions, if necessary. AD 2019-05-09 also provides an optional terminating modification for the repetitive detailed inspections. AD 2019-05-09 resulted from reports of low clearance between the electrical harness and nearby hydraulic pipes in the inboard trailing edge of the wing. The FAA issued AD 2019-05-09 to address this condition, which, if not detected and corrected, could lead to chafing of electrical harnesses in the vicinity of hydraulic pipes and could result in a potential source of ignition in the flammable fluid leakage zone, and possibly result in a fire or explosion and loss of the airplane.

Actions Since AD 2019-05-09 Was Issued

As previously mentioned, AD 2019-05-09 allows for an optional terminating modification of the airplane, which the EASA AD required but the FAA excepted. The preamble to AD 2019-05-09 specifies that the FAA was considering requiring modification of the adaptation damper bulkhead fitting for left hand and right hand wings to recover correct clearance between the electrical harness brackets and the damper. That AD explains that the planned compliance time for the modification would allow enough time to provide notice and opportunity for prior public comment on the merits of the modification, and this proposed AD follows from that determination.

The EASA, which is the Technical Agent for the Member States of the European Union, has issued EASA AD 2019-0035, dated February 15, 2019 (“EASA AD 2019-0035”) (also referred to as the Mandatory Continuing Airworthiness Information, or “the MCAI”), to correct an unsafe condition for certain Airbus SAS Model A320-251N and -271N airplanes, and Model A321-253N airplanes. The MCAI states:

Low clearance between electrical harness and nearby hydraulic pipes has been detected in the inboard trailing edge of some aeroplanes.

This condition, if not detected and corrected, could lead to chafing of electrical harnesses on hydraulic pipes, eventually creating an ignition source in the flammable fluid leakage zone area, possibly resulting in fire or an explosion and loss of the aeroplane.

To address this potential unsafe condition, Airbus issued the AOT [alert operators transmission], providing instructions to accomplish a detailed inspection (DET) for clearance and damage, and published the modification SB [Airbus Service Bulletin A320-29-1176], providing instructions to modify the electrical harness routing, increasing the clearance between electrical harness and hydraulic pipes.

For the reasons described above, this [EASA] AD requires repetitive DET of the electrical harness and modification of the aeroplane.

Explanation of Retained Requirements

Although this proposed AD does not explicitly restate the requirements of AD 2019-05-09, this proposed AD would retain all of the requirements of AD 2019-05-09. Those requirements are referenced in EASA AD 2019-0035, which, in turn, is referenced in paragraph (g) of this proposed AD.

Related IBR Material Under 1 CFR Part 51

This AD requires compliance with EASA AD 2019-0035, which the Director of the Federal Register approved for incorporation by reference as of April 4, 2019 (84 FR 10259, March 20, 2019). This material is reasonably available because the interested parties have access to it through their normal course of business or by the means identified in the ADDRESSES section.

FAA's Determination and Requirements of This Proposed AD

This product has been approved by the aviation authority of another country, and is approved for operation in the United States. Pursuant to our bilateral agreement with the State of Design Authority, the FAA has been notified of the unsafe condition described in the MCAI referenced above. The FAA is proposing this AD because the agency evaluated all pertinent information and determined an unsafe condition exists and is likely to exist or develop on other products of the same type design.

Proposed Requirements of This NPRM

This proposed AD would require accomplishing the actions specified in EASA AD 2019-0035 described previously, as incorporated by reference, except for any differences identified as exceptions in the regulatory text of this AD.

Explanation of Required Compliance Information

In the FAA's ongoing efforts to improve the efficiency of the AD process, the FAA worked with Airbus and EASA to develop a process to use certain EASA ADs as the primary source of information for compliance with requirements for corresponding FAA ADs. As a result, EASA AD 2019-0035 will be incorporated by reference in the FAA final rule. This proposed AD would, therefore, require compliance with the provisions specified in EASA AD 2019-0035, through that incorporation, except for any differences identified as exceptions in the regulatory text of this proposed AD. Service information specified in EASA AD 2019-0035 that is required for compliance with EASA AD 2019-0035 will be available on the internet http://www.regulations.gov by searching for and locating Docket No. FAA-2019-0495 after the FAA final rule is published.

Costs of Compliance

The FAA estimates that this proposed AD affects 14 airplanes of U.S. registry. The FAA estimates the following costs to comply with this proposed AD:

Estimated Costs for Required Actions
Action | Labor cost | Parts cost | Cost per product | Cost on U.S. operators
Retained actions from AD 2019-05-09 | 6 work-hours × $85 per hour = $510 | $0 | $510 | $7,140
New proposed actions | 16 work-hours × $85 per hour = $1,360 | 8,900 | 10,260 | 143,640

The FAA estimates the following costs to do any necessary on-condition action that would be required based on the results of any required actions. The FAA has no way of determining the number of aircraft that might need this on-condition action:

Estimated Costs of On-Condition Actions
Labor cost | Parts cost | Cost per product
Up to 8 work-hours × $85 per hour = $680 | * | Up to $680 *
* The FAA has received no definitive data that would enable the agency to provide parts cost estimates.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Will not affect intrastate aviation in Alaska; and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2019-05-09, Amendment 39-19591 (84 FR 10259, March 20, 2019), and adding the following new AD:

Airbus SAS: Docket No. FAA-2019-0495; Product Identifier 2019-NM-029-AD.

(a) Comments Due Date

The FAA must receive comments by August 15, 2019.

(b) Affected ADs

This AD replaces AD 2019-05-09, Amendment 39-19591 (84 FR 10259, March 20, 2019) (“AD 2019-05-09”).

(c) Applicability

This AD applies to Airbus SAS Model A320-251N and -271N airplanes, and Model A321-253N airplanes, certificated in any category, as identified in European Aviation Safety Agency (EASA) AD 2019-0035, dated February 15, 2019 (“EASA AD 2019-0035”).

(d) Subject

Air Transport Association (ATA) of America Code 92, Electrical system installation.

(e) Reason

This AD was prompted by reports of low clearance between the electrical harness and nearby hydraulic pipes in the inboard trailing edge of the wing. The FAA is issuing this AD to address this condition, which, if not detected and corrected, could lead to chafing of electrical harnesses in the vicinity of hydraulic pipes and could result in a potential source of ignition in the flammable fluid leakage zone, and possibly result in a fire or explosion and loss of the airplane.

(f) Compliance

Comply with this AD within the compliance times specified, unless already done.

(g) Requirements

Except as specified in paragraph (h) of this AD: Comply with all required actions and compliance times specified in, and in accordance with, EASA AD 2019-0035.

(h) Exceptions to EASA AD 2019-0035

(1) For purposes of determining compliance with the requirements of this AD: Where Paragraphs (1) and (3) of EASA AD 2019-0035 refer to its effective date, this AD requires using April 4, 2019 (the effective date of AD 2019-05-09).

(2) For purposes of determining compliance with the requirements of this AD: Where Paragraph (4) of EASA AD 2019-0035 refers to its effective date, this AD requires using the effective date of this AD.

(3) The “Remarks” section of EASA AD 2019-0035 does not apply to this AD.

(i) No Reporting Requirement

Although certain service information referenced in EASA AD 2019-0035 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0035 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) For information about EASA AD 2019-0035, contact the EASA, Konrad-Adenauer-Ufer 3, 50668 Cologne, Germany; telephone +49 221 89990 6017; email ADs@easa.europa.eu; internet www.easa.europa.eu. You may find this EASA AD on the EASA website at https://ad.easa.europa.eu. You may view this EASA AD at the FAA, Transport Standards Branch, 2200 South 216th St., Des Moines, WA. For information on the availability of this material at the FAA, call 206-231-3195. EASA AD 2019-0035 may be found in the AD docket on the internet at http://www.regulations.gov by searching for and locating Docket No. FAA-2019-0495.

(2) For more information about this AD, contact Sanjay Ralhan, Aerospace Engineer, International Section, Transport Standards Branch, FAA, 2200 South 216th St., Des Moines, WA 98198; telephone and fax 206-231-3223.

Issued in Des Moines, Washington, on June 21, 2019.
Dionne Palermo,
Acting Director, System Oversight Division, Aircraft Certification Service.

[FR Doc. 2019-13888 Filed 6-28-19; 8:45 am]

BILLING CODE 4910-13-P